DEPARTMENT OF TRANSPORTATION

Office of the Secretary

Notice of Applications for Certificates of Public Convenience and Necessity and Foreign Air Carrier Permits Filed Under Subpart B (Formerly Subpart Q) During the Week Ending May 3, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1996-1023 and DOT-OST-1996-1071.

Date Filed: April 28, 2014.

Due Date for Answers, Conforming Applications, or Motion to Modify Scope:May 19, 2014.

Description:Application of Gulf & Caribbean Cargo, Inc. requesting reissuance of its certificates of public convenience and necessity to remove the restriction on the total number of large aircraft Gulf & Caribbean is authorized to operate.

Docket Number: DOT-OST-2013-0085.

Date Filed: April 28, 2014.

Due Date for Answers, Conforming Applications, or Motion to Modify Scope: May 19, 2014.

Description:Application of Empresa Publica TAME Linea Aerea del Ecuador TAME EP (“TAME”) requesting that the Department amend its foreign air carrier permit to enable it to engage in scheduled foreign air transportation of persons, property, and mail between Quito, Ecuador, on the one hand, and Fort Lauderdale, Florida, on the other hand. TAME also requests exemption authority to the extent necessary so that they may exercise the rights requested in this Application prior to the issuance of the amended foreign air carrier permit.

Barbara J. Hairston,
Supervisory Dockets Officer, Docket Operations, Federal Register Liaison.

[FR Doc. 2014-12791 Filed 6-2-14; 8:45 am]

BILLING CODE 4910-9X-P